CORPORATION FOR NATIONAL AND COMMUNITY SERVICE

Agency Information Collection Activities; Submission to the Office of Management and Budget for Review and Approval; Comment Request; Package for AmeriCorps VISTA Application and Reporting Forms

AGENCY: Corporation for National and Community Service.

ACTION: Notice of information collection; request for comment.

SUMMARY: The Corporation for National and Community Service, operating as AmeriCorps, has submitted a public information collection request (ICR) entitled Package for AmeriCorps VISTA Application and Reporting Forms for review and approval in accordance with the Paperwork Reduction Act.

DATES: Written comments must be submitted to the individual and office listed in the ADDRESSES section by March 1, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Kelly Daly, at 202-606-6849 or by email to kdaly@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on November 17, 2023 at Vol. 88, No. 221 Page Number 80285. This comment period ended January 16, 2024. Zero public comments were received from this Notice.

Title of Collection: Package for AmeriCorps VISTA Application and Reporting Forms.

OMB Control Number: 3045-0038. Type of Review: Revision.

Respondents/Affected Public: Businesses and Organizations OR State, Local or Tribal Governments.

Total Estimated Number of Annual Responses: 750.

Total Estimated Number of Annual Burden Hours: 17,500.

Abstract: AmeriCorps seeks to renew the current information collection with revisions. AmeriCorps VISTA is revising its application and reporting package to reflect clarifications, make technical corrections, and simplify both the Support and Program Grant budget instructions. The Concept Paper and Application are being revised to add information about the Unique Entity ID registration process on SAM.gov. The VISTA Progress Report and Progress Report Supplement were not revised. The information collection will otherwise be used in the same manner as the existing application. AmeriCorps also seeks to continue using the current application until the revised application is approved by OMB. The current application is due to expire on March 31, 2024.

Carly Bruder,
Acting Director, AmeriCorp VISTA.

[FR Doc. 2024-01864 Filed 1-30-24; 8:45 am]

BILLING CODE 6050-28-P